ENVIRONMENTAL PROTECTION AGENCY

[FRL-9302-8]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 0983.12; NSPS for Equipment Leaks of VOC in Petroleum Refineries; 40 CFR part 60, subparts A, GGG and GGGa; was approved on 04/12/2011; OMB Number 2060-0067; expires on 04/30/2014; Approved without change.

EPA ICR Number 1643.07; Application Requirements for the Approval and Delegation of Federal Air Toxics Programs to State, Territorial, Local, and Tribal Agencies (Renewal); 40 CFR part 63, subpart E; was approved on 04/12/2011; OMB Number 2060-0264; expires on 04/30/2014; Approved without change.

EPA ICR Number 1080.13; NESHAP for Benzene Emission from Benzene Storage Vessels and Coke By Product Recovery Plants; 40 CFR part 61, subparts A and L; was approved on 04/12/2011; OMB Number 2060-0185; expires on 04/30/2014; Approved without change.

EPA ICR Number 1136.10; NSPS for VOC Emissions from Petroleum Refinery Wastewater Systems; 40 CFR part 60, subparts A and QQQ; was approved on 04/12/2011; OMB Number 2060-0172; expires on 04/30/2014; Approved without change.

EPA ICR Number 1764.05; National Volatile Organic Compound Emission Standards for Consumer Products; 40 CFR part 59, subpart C; was approved on 04/12/2011; OMB Number 2060-0348; expires on 04/30/2014; Approved without change.

EPA ICR Number 2383.02; NESHAP for Gold Mine Ore Processing; 40 CFR part 63, subparts A and EEEEEEE; was approved on 04/12/2011; OMB Number 2060-0659; expires on 04/30/2014; Approved without change.

EPA ICR Number 2274.03; NESHAP for Clay Ceramics Manufacturing, Glass Manufacturing and Secondary Nonferrous Metals Processing Area Sources; 40 CFR part 63, subparts A, RRRRRR, SSSSSS and TTTTTT; was approved on 04/12/2011; OMB Number 2060-0606; expires on 04/30/2014; Approved without change.

EPA ICR Number 2227.03; NSPS for Stationary Spark Ignition Internal Combustion Engines; 40 CFR part 60, subparts A and JJJJ; was approved on 04/12/2011; OMB Number 2060-0610; expires on 04/30/2014; Approved without change.

EPA ICR Number 1854.07; The Consolidated Air Rule (CAR) for the Synthetic Organic Chemical Manufacturing Industry (SOCMI) (Renewal); 40 CFR part 60, subparts A, Ka, Kb, VV, VVa, DDD, III, NNN and RRR; 40 CFR part 61, subparts A, BB, Y and V; 40 CFR part 63, subparts A, F, G, H and I; and 40 CFR part 65; was approved on 04/12/2011; OMB Number 2060-0443; expires on 04/30/2014; Approved without change.

EPA ICR Number 2369.02; NSPS for Sewage Sludge Incinerators; 40 CFR part 60, subpart LLLL; was approved on 04/12/2011; OMB Number 2060-0658; expires on 04/30/2014; Approved without change.

Comment Filed

EPA ICR Number 1856.07; NESHAP for Primary Lead Smeltering; in 40 CFR part 63, subparts A and TTT; OMB filed comment on 04/12/2011.

Dated: May 3, 2011.
John Moses,
Director, Collections Strategies Division.

[FR Doc. 2011-11132 Filed 5-5-11; 8:45 am]

BILLING CODE 6560-50-P